DEPARTMENT OF LABOR

Employment and Training Administration

[TA-W-38,735]

Motorola Energy Systems Group, Harvard, IL; Notice of Termination of Certification

This notice terminates the Certification Regarding Eligibility to Apply For Worker Adjustment Assistance issued by the Department on March 12, 2001, applicable to workers of the subject firm. The notice will soon be published in the Federal Register.

The Department, on its own motion, reviewed the worker certification. Findings show that on August 2, 2000, the Department issued a determination applicable to all workers of Motorola, Inc., Energy Systems Group, Harvard, Illinois (TA-W-37,850). Workers who became totally or partially separated from employment on or after June 10, 1999, through August 2, 2002, are eligible to apply for worker adjustment assistance program benefits.

Based on this new information, the Department is terminating the certification for petition number TA-W-38,850. Further coverage for workers under this certification would serve no purpose, and the certification has been terminated.

Signed at Washington, DC, this 20th day of March 2001.
Linda G. Poole,
Certifying Officer, Division of Trade Adjustment Assistance.

[FR Doc. 01-8323 Filed 4-4-01; 8:45 am]

BILLING CODE 4510-30-M